DEPARTMENT OF STATE

[Public Notice 9175]

2015 Fiscal Transparency Report

AGENCY: Department of State.

ACTION: Notice.

SUMMARY: The Department of State (“the Department”) hereby presents the findings from the FY 2015 fiscal transparency review process in its Fiscal Transparency Report. This report describes the minimum requirements of fiscal transparency developed, updated, and strengthened by the Department in consultation with other relevant federal agencies, reviews those governments that were identified as anticipated recipients of foreign assistance funds in the FY 2014 Fiscal Transparency Report, assesses those that did not meet the minimum fiscal transparency requirements, and indicates whether governments that did not meet the minimum fiscal transparency requirements made significant progress towards meeting the requirements during the review period of January 17-December 31, 2014. The report also provides a brief description of the use of the Fiscal Transparency Innovation Fund.

FOR FURTHER INFORMATION CONTACT: Christopher Ellis, Financial Economist, 202-647-9497.

SUPPLEMENTARY INFORMATION: This report is submitted pursuant to section 7031(b)(3) of the Department of State, Foreign Operations, and Related Programs Appropriations Act, 2015 (Div. J, Pub. L. 113-235) (“the Act”).

Fiscal Transparency

For the purpose of this report, the minimum requirements of fiscal transparency include having budget documents that are publicly available, substantially complete, and generally reliable. The review includes an assessment of the transparency of processes for awarding government contracts and licenses for natural resource extraction. Fiscal transparency is a critical element of effective public financial management, helps in building market confidence, and underpins economic sustainability. Fiscal transparency fosters greater government accountability by providing a window into government budgets for citizens, helping them to hold their leadership accountable, and facilitating better-informed public debates. The Department's fiscal transparency review process assesses whether governments meet minimum requirements of fiscal transparency.

Annual reviews of the fiscal transparency of governments that receive U.S. assistance helps ensure U.S. taxpayer money is used appropriately and provides opportunities to dialogue with governments on the importance of fiscal transparency.

Section 7031(b) of the Act requires the Secretary to develop, update, and strengthen minimum requirements of fiscal transparency for each government receiving assistance appropriated by the Act, as identified in the FY 2014 Fiscal Transparency Report, in consultation with other relevant federal agencies, and to make or update any determination of “significant” or “no significant progress” in meeting the minimum requirements of fiscal transparency for each government that did not meet the minimum requirements. Through authority delegated from the Secretary, the Deputy Secretary of State for Management and Resources made those determinations for FY 2015.

As a result of the Department updating and strengthening the minimum requirements of fiscal transparency, more governments fell short of these requirements than in the FY 2014 assessments, despite in some cases maintaining or even improving their level of fiscal transparency. The report includes a description as to how those governments fell short of the minimum requirements, outlines any significant progress being made toward meeting the minimum requirements, and provides specific recommendations of steps such governments should take to improve fiscal transparency. The report also outlines the process followed by the Department in completing the assessments and describes how funds appropriated by the FY 2015 and earlier appropriations acts are being used to support fiscal transparency.

While a lack of fiscal transparency can be an enabling factor for corruption, the report does not assess corruption. A finding that a government “does not meet the minimum requirements of fiscal transparency” does not necessarily mean there is significant corruption in the government; a finding that a government “meets the minimum requirements of fiscal transparency” does not necessarily reflect a low level of corruption.

Fiscal Transparency Review Process and Criteria

The Department reviewed its minimum requirements of fiscal transparency in consultation with other relevant federal agencies, and updated and strengthened those requirements. The Department then assessed the fiscal transparency of the 140 governments identified, determined whether the minimum requirements were met, and identified any measures those governments had implemented to make significant progress towards meeting the requirements.

In conducting the FY 2015 review, the Department assessed the fiscal transparency of governments during the period January 17—December 31, 2014. In reaching a determination, the Department considered information from U.S. embassies and consulates, other U.S. government agencies, international organizations, and civil society organizations. U.S. diplomatic missions consulted with foreign government officials, international organizations, and civil society to obtain information for these assessments.

The Department recognizes the specific circumstances and practices of fiscal transparency differ among governments. The review process takes a tailored approach in evaluating governments while ensuring minimum fiscal transparency requirements are met in order to enable meaningful participation of the public in the budgeting process.

Minimum Requirements of Fiscal Transparency

Subsection 7031(b)(2) of the Act provides that the minimum requirements of fiscal transparency developed by the Department are requirements “consistent with those in subsection [7031](a)(1)” and the public disclosure of:

• National budget documentation (to include receipts and expenditures by ministry), and

• government contracts and licenses for natural resource extraction (to include bidding and concession allocation practices).

The FY 2015 fiscal transparency review process evaluated whether the identified governments publicly discloses budget documents including expenditures broken down by ministry and revenues broken down by source and type. The review process also evaluated whether the government has an independent supreme audit institution or similar institution that audits the government's annual financial statements and whether such audits are made publicly available. The review further assessed whether the process for awarding licenses and contracts for natural resource extraction is outlined in law or regulation and followed in practice, and whether basic information on such awards is publicly available. The Department applied the following criteria in assessing whether governments met the minimum requirements of fiscal transparency.

Budget information should be:

• Publicly Available: Budget documents should be broadly available online, at government offices or libraries, upon request from the ministry, or for purchase at a nominal fee at a government office. Publicly available budgets should include expenditures broken down by ministry and revenues broken down by source and type. Information on government debt obligations should be publicly available.

• Substantially Complete: Budget documents, which should include the proposed budget, the enacted budget, and the end-of-year report, should provide a substantially full picture of a government's planned expenditures and revenue streams, including natural resource revenues. Budgets should include at least one level of detail beyond the administrative unit (ministry, agency, or department). Budget documents should detail allocations to and earnings from state-owned enterprises and, if not, significant state-owned enterprises should have publicly available, audited financial statements. A published budget that does not include significant cash or non-cash resources, including foreign aid, would not be considered substantially complete. Budget documents should incorporate all special accounts and off-budget accounts, or if they have a legitimate purpose, they should be audited, the results made public, and the accounts subjected to oversight. Budget documents should also include expenditures to support executive offices or royal families where such expenditures represent a significant budgetary outlay. The review process recognizes military and/or intelligence budgets are often not publicly available for national security reasons. However, military and intelligence expenditures should be approved by parliament and subject to civilian oversight.

• Reliable: Budget documents and related data are considered reliable if they are disseminated within a reasonable amount of time and the information contained therein is credible. “Reasonable time” generally corresponds to within one month of the start of the fiscal year for the budget proposal, within three months of enactment for the enacted budget, and within 18 months of the end of the fiscal year for the year-end reports. Significant departures from planned receipts and expenditures should be explained in supplementary budget documents and publicly disclosed in a timely manner. Financial statements should use accounting principles that result in consistent and comparable statements. The executed budget should be audited by an independent supreme audit institution, and the results of such audits should be made public within a reasonable period of time (within 12 months of the dissemination of the year-end reports).

Natural resource extraction contracting and licensing procedures should be:

• Transparent: The criteria and procedures for the contracting and licensing of natural resource extraction should be publicly available and codified in law or regulation. Procedures used to award contracts and licenses in practice should be consistent with the government's legal requirements. The basic parameters of concessions and contracts should be made publicly available after the decision. Such information should include the geographic area covered by the contract or license, the resource being developed, the duration of the contract, and the company to which the contract or license is awarded.

Significant Progress or No Significant Progress

A determination of “significant progress” indicates that during the review period, a government has addressed deficiencies in meeting the Department's minimum requirements.

Fiscal Transparency Innovation Fund

Section 7031(b)(4) of the Act requires funds appropriated under Title III of the Act be made available for programs and activities to improve budget transparency and to support civil society organizations that promote fiscal transparency. Since FY 2012, Congress has called for such funds to be made available for that purpose. The Department and USAID created the Fiscal Transparency Innovation Fund (FTIF) in FY 2012. FTIF supports programs and activities that assist governments to improve their public financial management and fiscal transparency standards, and civil society organizations that promote budget transparency. The Department's Bureau of Economic and Business Affairs and USAID's Bureau for Economic Growth, Education, and the Environment solicit proposals and award funds in accordance with established guidelines. In FY 2015, the Department and USAID intend to provide $5 million for FTIF.

The Department and USAID are using $7 million in FY 2014 funds to support 10 projects in the following countries: Burma, Cambodia, Chad, the Republic of Congo, Guinea, Madagascar, Malawi, Nicaragua, Senegal, and Ukraine. The projects furthered efforts by government and civil society to improve fiscal transparency and public financial management practices and to improve public awareness and involvement in the expenditure of public resources. Examples of projects include $100,000 to increase citizen awareness of and participation in the budget process in Chad, and $800,000 to improve the fiscal transparency of the energy sector in Ukraine.

The Department intends to use FY 2015 FTIF funds to support projects to enhance: (1) Governments' capacity to develop and execute comprehensive, reliable, and transparent budgets; (2) citizens' visibility into state expenditure and revenue programs; and (3) citizens' ability to advocate for specific issues related to government budgets and budget processes.

Conclusions of Review Process

The Department concluded, of the 140 governments evaluated pursuant to the Act, 60 did not meet the minimum requirements of fiscal transparency. However, of these, nine governments made significant progress toward meeting the minimum requirements of fiscal transparency.

The Department assessed the following governments as meeting the minimum requirements of fiscal transparency for FY 2015: Albania, Armenia, Argentina, The Bahamas, Belize, Bosnia and Herzegovina, Botswana, Brazil, Bulgaria, Burkina Faso, Cabo Verde, Chile, Colombia, Costa Rica, Cote d'Ivoire, Croatia, Czech Republic, Ecuador, El Salvador, Estonia, Fiji, Georgia, Ghana, Greece, Guatemala, Guyana, Honduras, Hungary, India, Indonesia, Israel, Jamaica, Jordan, Kenya, Kosovo, Kyrgyzstan, Latvia, Lesotho, Lithuania, Macedonia, Malaysia, Malta, Marshall Islands, Mauritius, Mexico, Micronesia, Moldova, Mongolia, Montenegro, Morocco, Namibia, Nepal, Panama, Papua New Guinea, Paraguay, Peru, Philippines, Poland, Portugal, Romania, Rwanda, Samoa, Senegal, Serbia, Sierra Leone, Singapore, Slovakia, Slovenia, South Africa, Sri Lanka, Thailand, Timor-Leste, Togo, Tonga, Trinidad and Tobago, Tunisia, Turkey, Uruguay, Vietnam, and Zambia.

The following table lists those governments that were found not to meet the minimum requirements of fiscal transparency and identifies whether the governments made significant progress toward meeting those requirements:

Governments assessed pursuant to the Act as not meeting minimum requirements of fiscal transparency for FY 2015 | Significant progress | No significant progress
Afghanistan |  | X
Algeria |  | X
Angola | X |
Azerbaijan |  | X
Bahrain |  | X
Bangladesh |  | X
Benin |  | X
Burma |  | X
Burundi |  | X
Cambodia |  | X
Cameroon |  | X
Central African Republic |  | X
Chad | X |
China |  | X
Comoros | X |
Congo, Democratic Republic of the | X |
Congo, Republic of the |  | X
Djibouti |  | X
Dominican Republic |  | X
Egypt |  | X
Ethiopia |  | X
Gabon |  | X
Gambia, The |  | X
Guinea |  | X
Guinea-Bissau |  | X
Haiti |  | X
Iraq |  | X
Kazakhstan | X |
Laos |  | X
Lebanon |  | X
Liberia | X |
Libya |  | X
Madagascar |  | X
Malawi |  | X
Maldives |  | X
Mali |  | X
Mauritania |  | X
Mozambique |  | X
Nicaragua |  | X
Niger | X |
Nigeria |  | X
Oman |  | X
Pakistan |  | X
Palestinian Authority |  | X
Sao Tome and Principe |  | X
Saudi Arabia |  | X
Seychelles |  | X
Somalia |  | X
South Sudan |  | X
Sudan |  | X
Suriname |  | X
Swaziland |  | X
Tajikistan |  | X
Tanzania | X |
Turkmenistan |  | X
Uganda |  | X
Ukraine | X |
Uzbekistan |  | X
Yemen |  | X
Zimbabwe |  | X

Government-by-Government Assessments

This section describes areas where governments fell short of the Department's minimum requirements of fiscal transparency and includes specific recommendations of steps such governments should take to improve fiscal transparency. For those governments found to have made significant progress toward meeting the minimum requirements, the section also includes a brief description of such progress.

Afghanistan: While the budget is publicly available, it does not include allocations to and earnings from state-owned enterprises and state-owned enterprises do not have audited accounts. Despite improvements in recent years, revenue and expenditure data is unreliable. The supreme audit institution does not carry out a verification of the government's annual financial statements. The process for awarding natural resource extraction licenses and contracts is outlined in law or regulations and basic information on the awards is publicly available. Afghanistan's fiscal transparency would be improved by including all revenue and expenditure data in the budget, identifying financial transfers to and from state-owned enterprises in the budget, and carrying out and publishing an audit of the government's financial statements by the supreme audit institution within a reasonable period of time.

Algeria: The budget is publicly available but does not include adequate detail on expenditures and revenues. The government also maintains off-budget accounts not subject to audit or oversight. The government's year-end report is not made publicly available within a reasonable period of time. The supreme audit institution audits the government's financial statements but its audit reports are not made publicly available within a reasonable period of time. The process for awarding natural resource extraction licenses and contracts is outlined in law or regulation and basic information on the awards is publicly available. Algeria's fiscal transparency would be improved by providing additional detail in its budget, subjecting off-budget accounts to audit and oversight, and making budget documents, such as the year-end report and the supreme audit institution's audit of the government's financial statements, publicly available within a reasonable period of time.

Angola: The budget is publicly available and details expenditures and revenues; it includes allocations to and earnings from state-owned enterprises, and debt obligations. State-owned enterprises submit annual financial statements and the oil and gas state-owned enterprise, Sonangol, publishes independently audited annual financial statements. The information in budget documents is considered generally credible. Although there is a supreme audit institution, its reports are not publicly available. The process for awarding natural resource extraction licenses and contracts is outlined in law or regulation and basic information on such awards is publicly available. Angola made significant progress by completing financial reconciliation for government accounts and publishing year-end budget reports; improving the transparency of information about transfers from the national oil company, Sonangol, to the Ministry of Finance; and including Sonangol's quasi-fiscal activities in the budget. Angola's fiscal transparency would be improved by ensuring its supreme audit institution audits the government's annual financial accounts and makes public its findings within a reasonable period of time.

Azerbaijan: Budget documents are publicly available and provide a substantially complete picture of the government's revenues, including natural resources. However, budget documents do not contain sufficient detail for expenditures and do not identify allocations to or earnings from state-owned enterprises. Many state-owned enterprises also do not have publicly available audited accounts. It is unclear whether the supreme audit institution verifies government financial statements, and its reports are not publicly available. The process by which the government awards natural resource contracts or licenses is generally opaque and only partially specified in law, regulation, or public documents. However, once a contract or license is awarded, the government makes basic information on awards publicly available. Azerbaijan's fiscal transparency would be improved by including more detail in publicly available budget documents including allocations to and earnings from state-owned enterprises; making supreme audit institution audit reports publicly available; and fully specifying in law or regulation the process for awarding natural resource extraction contracts or licenses and following that process in practice.

Bahrain: The budget is publicly available but does not include expenditures for the royal family or allocations to state-owned enterprises. The information in the budget is considered credible. The supreme audit institution audits the year-end report annually and the report is published once in newspapers. The process for awarding natural resource extraction licenses and contracts is outlined in law or regulation and basic information on such awards is publicly available. Bahrain's fiscal transparency would be improved by publicly disclosing royal family expenditures in its budget, detailing allocations to state-owned enterprises, and publishing supreme audit institution audits online.

Benin: The budget is publicly available and includes, but does not identify, revenue from natural resources or allocations to and earnings from state-owned enterprises. State-owned enterprises have audited financial statements but such statements are not made publicly available. The supreme audit institution has completed audits of the government's annual financial statements but the reports were not made publicly available within a reasonable period of time. The process for awarding natural resource extraction licenses and contracts is outlined in law or regulation and basic information on the awards is publicly available. Benin's fiscal transparency would be improved by providing a comprehensive public accounting of all revenues and expenditures, including from state-owned enterprises and the relatively nominal revenues from natural resources, and ensuring its supreme audit institution audits are made publicly available within a reasonable period of time.

Bangladesh: While the budget is publicly available and breaks down expenditures and revenues, financial allocations to and earnings from state-owned enterprises are included only in the aggregate. Information on earnings from state-owned enterprises is included in supplementary budget documents; however, information on allocations to state-owned enterprises is not available. The budget does not include expenditures to support executive offices; it is unclear whether these represent a significant outlay. Further, the supreme audit institution has not produced and made publicly available verifications of the government's annual financial statements within a reasonable period of time. The process for awarding natural resource extraction licenses and contracts is outlined in law or regulation and basic information on the awards is publicly available. Bangladesh's fiscal transparency would be improved by including in the budget more detail on allocations to and earnings from state-owned enterprises and expenditures to support executive offices and publishing an audit of the government's financial statements by the supreme audit institution within a reasonable period of time.

Burma: The enacted budget is publicly available, but the budget proposal, year-end report, and debt obligations are not. The enacted budget does not include details such as earnings from state-owned enterprises. While state-owned enterprises are subject to audit, audits are not done regularly or made publicly available. The government maintains off-budget accounts that do not appear to be subject to audit and oversight. There was no widely available information as to whether there was civilian oversight of the military and intelligence budgets. The supreme audit institution reportedly produces an audit of the government's financial statements, but its reports are not publicly available. The process for awarding natural resource extraction licenses and contracts is not outlined in law or regulation, nor is basic information on the awards publicly available. Burma's fiscal transparency would be improved by producing and making public detailed, comprehensive budget documents; making state-owned enterprise audited accounts and supreme audit institution reports publicly available; subjecting off-budget accounts and military/intelligence budgets to audit and oversight; and specifying in law or regulation the processes for awarding natural resource extraction contracts and licenses and making basic information on such awards publicly available.

Burundi: While the budget is publicly available, it is not substantially complete. The government appears to maintain some off-budget accounts. Budget documents are made publicly available within a reasonable period of time. The process for awarding natural resource extraction licenses and contracts is outlined in law or regulation and basic information on the awards is publicly available. Burundi's fiscal transparency would be improved by ensuring all revenues and expenditures are included in the budget and by including accurate reporting of mining revenues.

Cambodia: While the government publishes enacted and year-end budget documents, proposed budgets are not publicly available. Budget documents are substantially complete. The supreme audit institution is authorized to audit government accounts but it does not make its reports (with the exception of 2006 and 2007 reports) publicly available. The government began implementing a new budget classification that complies with international accounting standards. The process for awarding natural resource extraction licenses and contracts is not outlined in law or regulation and basic information on such awards is not publicly available. Cambodia's fiscal transparency would be improved by making publicly available proposed budgets and supreme audit institution reports, and specifying in law or regulation the processes by which the government awards natural resource contracts or licenses and making basic information on such awards publicly available.

Cameroon: The budget is publicly available but does not include all expenditures and revenues, including allocations to and earnings from state-owned enterprises. Less than a third of state-owned enterprises produce financial statements. The supreme audit institution does not audit the entire budget annually, nor are its reports publicly available. The process for awarding natural resource extraction licenses and contracts is outlined in law or regulation and basic information on the awards is publicly available. Cameroon's fiscal transparency would be improved by including all revenues and expenditures in the budget, auditing all significant state-owned enterprises, and carrying out and making publicly available within a reasonable period of time an audit of the government's annual financial statements by the supreme audit institution.

Central African Republic: In a period of significant political unrest, the government budget process did not function according to established procedures. The process by which the government awards natural resource contracts or licenses is not specified in law, regulation, or other public document nor is basic information about such awards made publicly available. The Central Africa Republic's fiscal transparency would be improved by resuming normal budgeting procedures, specifying in law or regulation the process for awarding natural resource extraction contracts or licenses, and making basic information about such awards publicly available.

Chad: The budget is publicly available but does not include all revenues and expenditures. The budget does not include foreign aid or earnings from state-owned enterprises and significant state-owned enterprises do not have audited accounts. The government maintains off-budget accounts not subject to audit or oversight. The new supreme audit institution has yet to produce publicly available reports. The process used to award natural resource extraction contracts is not always consistent with the procedural requirements set by law or regulation. Chad made significant progress by producing timely, publicly available quarterly budget execution reports and establishing a supreme audit institution. Chad's fiscal transparency would be improved by including all revenues and expenditures in the budget, auditing significant state-owned enterprises' accounts, making supreme audit institution reports publicly available, eliminating off-budget accounts or subjecting them to audit and oversight, and adhering to the process for awarding natural resource extraction contracts and licenses as set out in applicable laws.

China: While the government publishes annual budget documents, it does not make budget documents available within a reasonable period of time. For example, the budget proposal is not made publicly available before the budget is enacted. Budget documents do not identify financial allocations to state-owned enterprises. The supreme audit institution audits all national government entities, including ministries and state-owned enterprises. The process for awarding natural resource extraction licenses and contracts is outlined in law or regulation and basic information on the awards is publicly available. China's fiscal transparency would be improved by detailing financial allocations to and earnings from state-owned enterprises in the budget by company type, and publishing the proposed budget ahead of the budget's enactment.

Comoros: While the enacted budget and year-end report are publicly available, the executive's budget proposal is not. The budget is considered substantially complete. The supreme audit institution does not make its yearly audit publicly available. The process for awarding natural resource extraction licenses and contracts is outlined in law or regulation and basic information on the awards is publicly available. Comoros made significant progress during the review period by providing some budget documents on the ministry of finance's Web site. Comoros' fiscal transparency would be improved by making the proposed budget publicly available, and ensuring the supreme audit institution conducts audits of the government's annual financial statements and makes its reports publicly available within a reasonable period of time.

Congo, Democratic Republic of the: The budget is publicly available and includes, but does not specifically identify allocations to state-owned enterprises. All state-owned enterprises, including the state-owned mining company, are required to have publicly available audited financial statements, but not all are published within a reasonable period of time. The government reportedly maintains accounts not subject to audit or oversight. Military and intelligence budgets do not appear to be subject to civilian oversight. Budget execution varies considerably from the enacted budget. The supreme audit institution audits the government's annual financial statements and made significant progress by making these audit reports publicly available within a reasonable time period. The process for awarding natural resource contracts and licenses is specified in law; no awards were made during the reporting period. The Democratic Republic of the Congo's fiscal transparency would be improved by including all revenues and expenditures in the budget at an appropriate level of detail; specifically identifying allocations to state-owned enterprises and making state-owned enterprises' audited financial statements publicly available within a reasonable period of time; making information public on any off-budget accounts and subjecting off-budget accounts and military/intelligence budgets to audit and oversight; and making public within a reasonable period of time all budget documents including revised estimates.

Congo, Republic of the: The budget is publicly available but does not include details on expenditures, revenues, and debt obligations. The government has off-budget accounts not subject to audit and oversight. There are discrepancies between the enacted budget and budget execution with no explanation of the discrepancies. The government does not make available year-end or executed budget information to the supreme audit institution. The process for awarding natural resource extraction licenses and contracts is outlined in law or regulation; but there are reports of inconsistent application of applicable regulations. The Republic of the Congo's fiscal transparency would be improved by enhancing the completeness of its budget reporting; producing and making public year-end and executed budget information; disclosing details of debt obligations; subjecting off-budget accounts to audit and oversight; producing and publishing supreme audit institution audits of the annual executed budget within a reasonable period of time; and increasing transparency in natural resource extraction awards.

Djibouti: While some budget documents are publicly available, the government does not make publicly available its year-end budget report, or information on all debt obligations. The government maintains off-budget accounts that are not audited. Budget data is not considered credible, and although the supreme audit institution audits the budget annually, its reports are not publicly available. The government is in the process of revising the applicable laws governing the process for awarding natural resource extraction contracts or licenses; basic information on natural resource extraction awards is publicly available. Djibouti's fiscal transparency would be improved by including all revenues and expenditures in the budget, producing credible, and reasonably accurate budget data, and making its year-end budget and supreme audit institution audit reports publicly available within a reasonable period of time.

Dominican Republic: Although the budget is publicly available, it lacks detail in certain areas such as the large budget allocation for the presidency, which represents nine percent of the total budget. It appears the intelligence budget is not subject to civilian oversight in practice. The supreme audit institution conducts an audit of the government's annual financial statements made publicly available within a reasonable period of time. The process for awarding natural resource extraction licenses and contracts is outlined in law and basic information on the awards is publicly available. Overall budget reliability has improved with new systems and better forecasting, and the government has a five-year plan to adopt international accounting standards. The Dominican Republic's fiscal transparency would be improved by increasing the transparency of the budget of the presidency and establishing civilian oversight over the intelligence budget.

Egypt: Budget documents are publicly available and generally complete, but lack detail in some areas. For example, the budget does not include allocations to or earnings from military state-owned enterprises. While the government has eliminated a substantial number of off-budget accounts, there are still accounts not publicly disclosed or subject to audit. Also, the government did not release its budget proposal within a reasonable period of time. The supreme audit institution reviews the government's accounts but its reports are not publicly available. The process for awarding natural resource extraction licenses and contracts is outlined in law, but basic information on awards is not publicly available. The government made progress by publishing for the first time a citizens' budget that met international standards and a mid-year review. Egypt's fiscal transparency would be improved by making publicly available a proposed budget within a reasonable period of time; including all revenues and expenditures in the budget, including allocations to and earnings from military state-owned enterprises; subjecting off-budget accounts to audit and oversight, and making supreme audit institution reports and the basic terms of natural resource extraction licenses and contracts publicly available.

Ethiopia: While the government makes enacted budgets publicly available, budget proposals and execution reports are not available and year-end reports are not published within a reasonable period of time. Budget documents do not identify allocations to or earnings from state-owned enterprises and not all significant state-owned enterprises have publicly available, audited financial statements. The process for awarding natural resource extraction licenses and contracts is outlined in law or regulation, but basic information on such awards is not always publicly available. Ethiopia's fiscal transparency would be improved by making proposed budgets, budget execution reports, and year-end reports publicly available within a reasonable period of time; identifying allocations to and earnings from state-owned enterprises in the budget; and making basic information about natural resource licenses and contracts awards publicly available.

Gabon: The government did not publicly release budgets or budget reports. There is no supreme audit institution. The process of awarding natural resource extraction licenses and contracts is opaque and basic terms of contracts for natural resource exploitation are not generally publicly available. Gabon's fiscal transparency would be improved by making publicly available a substantially complete proposed budget, enacted budget, and year-end report; establishing a functioning independent supreme audit institution; conducting and making public an audit of the government's annual financial statements; and specifying in law or regulation the processes by which the government awards natural resource contracts or licenses, and subsequently making the basic terms of awarded licenses and contracts publicly available.

The Gambia: The budget is publicly available, but does not break down revenues. Earnings from and allocations to state-owned enterprises, revenues from natural resource extraction, and military and intelligence expenditures are not included in the budget. The supreme audit institution is responsible for auditing the government's annual executed budget, but it does not produce timely audits of the budget. The process by which the government awards natural resource contracts or licenses is not specified in law nor is basic information about awards publicly available. The Gambia's fiscal transparency would be improved by including all revenues and expenditures in the budget, subjecting off-budget accounts to audit and oversight, and increasing the capacity of its supreme audit institution to produce timely, publicly available audits. Transparency would also be improved by establishing laws or regulations governing the award of natural resource extraction contracts and licenses, following the law in practice, and making publicly available information about such awards.

Guinea: The budget is not broadly available and, with the exception of revenues from the extractive industry, the budget is not substantially complete. There is no supreme audit institution. The process for awarding natural resource extraction licenses and contracts is outlined in law or regulation and basic information on the awards is publicly available. The seating of the first-ever National Assembly, which began initial oversight of the budget, may provide a basis for future progress in fiscal transparency. Guinea's fiscal transparency would be improved by making its budget publicly available; providing more detail on revenues and expenditures, including revenues from state-owned enterprises; and establishing a supreme audit institution to audit the budget.

Guinea-Bissau: The budget is ostensibly publicly available, but can be difficult to obtain in practice. The budget breaks down expenditures by ministry and revenues by type and source, but does not include revenues from state-owned enterprises. The supreme audit institution does not audit the budget. The process by which the government awards natural resource contracts or licenses is specified in law, but not always followed in practice, and basic information on awarded contracts is not made publicly available. Guinea-Bissau's fiscal transparency would be improved by including all sources of expenditures and revenues in the budget, including state-owned enterprises; having the supreme audit institution audit the budget, and make publicly available its findings within a reasonable period of time; and increasing transparency in natural resource extraction contract and licensing.

Haiti: The budget is publicly available. Natural resource revenues are included in the budget, but are not identified by origin, source, or type. Allocations to and earnings from state-owned enterprises are not clearly identified in the budget. Significant state-owned enterprises do not have audited accounts that are either provided to an oversight body or made publicly available. The supreme audit institution submits annual budget audits to the parliament, but it does not regularly make these budget audits publicly available. The process by which the government awards natural resource contracts or licenses is specified in law, but basic information on natural resources contracts, once awarded, is not publicly available. Haiti's fiscal transparency would be improved by clearly identifying natural resource revenues and allocations to and earnings from state-owned enterprise in the budget, making supreme audit institution annual audits publicly available, regularly auditing state-owned enterprise accounts, and making publicly available basic information on natural resource contracts and licenses.

Iraq: The government did not pass a national budget and information on off-budget expenditures was not publicly available. The process for awarding natural resource extraction licenses and contracts is outlined in law or regulation; basic information on awards is publicly available with the exception of contracts between the Kurdistan regional government and international companies. Iraq's fiscal transparency would be improved by publishing timely, accurate budgets and making publicly available budget proposals, year-end reports, supreme audit institution audit reports and basic information on all natural resource extraction awards.

Kazakhstan: The budget is publicly available and includes detail on expenditures and revenues, including transfers to the National Oil Fund. Kazakhstan made significant progress by including allocations to and earnings from state-owned enterprises in the budget. The supreme audit institution reviews the budget, but does not make its full report publicly available. The process for awarding natural resource extraction licenses and contracts is outlined in law and basic information on the awards is publicly available. Kazakhstan's fiscal transparency would be improved by having the supreme audit institution conduct a verification of the government's annual financial statements and make its report publicly available within a reasonable period of time.

Laos: Publicly available budget documents do not provide substantial detail of the government's revenues and expenditures. Areas lacking detail include allocations to and earnings from state-owned enterprises; revenues from natural resources; military, intelligence, and executive office budgets; and any unauthorized provincial expenditures. The government does not make public its proposed budget, enacted budget, and year-end reports within a reasonable period of time. The supreme audit institution does not audit annual budget execution nor are its reports publicly available. The process by which the government awards natural resource contracts or licenses is specified in law or regulation; the government did not make any awards during the review period. Laos' fiscal transparency would be improved by detailing revenues and expenditures, and making budget documents and supreme audit institution audits publicly available within a reasonable period of time.

Lebanon: The government does not make its budget publicly available within a reasonable period of time. Budget documents do not provide a substantially complete view of expenditures and revenues. Details regarding military and intelligence expenditures are limited and these accounts are not subject to civilian oversight. The government also maintains off-budget accounts not subject to scrutiny. The supreme audit institution does not produce an audit of the government's annual financial statements. The process by which the national government expects to award natural resource contracts or licenses is specified in regulations awaiting approval by the cabinet. Lebanon's fiscal transparency would be improved by regularly publishing its enacted budget and year-end reports; including sufficient detail on expenditures and revenues by ministry and agency; eliminating off-budget accounts; and producing and publishing a supreme audit institution audit.

Liberia: Budget documents are publicly available; however, during the review period, there were significant deficiencies in ensuring all expenditures or contracts were on budget. The supreme audit institution audits the government's annual financial statements, but its reports are not made publicly available within a reasonable period of time. The process for awarding natural resource extraction licenses and contracts is outlined in law and basic information on the awards is publicly available. During the review period, the government made significant progress by conducting a procurement review with relevant ministries and beginning to implement reforms concerning contracting and budgeting procedures. Liberia's fiscal transparency would be improved by ensuring the budget is substantially complete, eliminating extra-budgetary expenditures, and making supreme audit institution audit reports publicly available within a reasonable period of time.

Libya: During a period of significant internal political conflict, the government did not implement its budget processes. The budget and information on debt obligations and its sovereign wealth fund, the Libyan Investment Authority, are not publicly available. Revenues from state-owned enterprises are not included in the budget. Significant state-owned enterprises have audited accounts, but audit reports are not publicly available and it is unclear if audits were conducted. The supreme audit institution is required by law to audit the budget, but its reports are not consistently made publicly available and it is unclear if audits were conducted. The process for awarding natural resource extraction licenses and contracts is outlined in law or regulation, but basic information on the awards is not publicly available. Libya's fiscal transparency would be improved by making publicly available its budget, information on its sovereign wealth fund, state-owned enterprise audit reports, budget execution reports, government financial audit reports, and basic information on natural resource extraction awards; subjecting military and intelligence budgets to civilian oversight; and ensuring the supreme audit institution audits are carried out.

Madagascar: Budget documents are publicly available, but contain gaps, including some natural resource revenues and transfers to and from state-owned enterprises. The government did not publish year-end reports within a reasonable period of time. The government indicates the annual executed budget is audited, but audit reports are not publicly available. The process for awarding natural resource extraction licenses and contracts is outlined in law. However, the government is revising the laws that govern the awards of petroleum and mining licenses and there is currently a freeze on new mining licenses. The government makes the basic terms of awards publicly available. Madagascar's fiscal transparency would be improved by increasing budget completeness and reliability; including allocations to and revenues from state-owned enterprises and revenues from natural resources in the budget; ensuring an independent supreme audit agency carries out audits of the government's annual financial statements and makes its reports publicly available within a reasonable period of time. Fiscal transparency would be further improved by completing a review of the laws specifying the process by which the government awards natural resource contracts or licenses.

Malawi: Budget documents are publicly available and substantially complete. The government does not provide financial statements to the supreme audit institution within a reasonable period of time and, as a result, the supreme audit institution's audit of the government's annual financial accounts is delayed. While the process by which the national government awards natural resource contracts is specified in law, the process actually used to award contracts does not always appear to be consistent with law or regulation nor is basic information about such awards made publicly available. Malawi's fiscal transparency would be improved by providing government year-end financial statements to the supreme audit institution within a reasonable period of time; making supreme audit institution reports publicly available within a reasonable period of time; adhering to the process for awarding natural resource extraction contracts and licenses as set out in applicable laws, and by making public basic information on natural resource extraction awards.

Maldives: While the budget is publicly available and breaks down expenditures by ministry or government agency and revenues by source and type, only limited data on debt obligations is available. Information in the budget documents is not always reliable. The supreme audit institution does not conduct and make public an audit of the government's annual financial statements. Maldives' fiscal transparency would be improved by making publicly available substantially complete and reliable budget documents, including debt obligations. Fiscal transparency would also be improved by having the supreme audit institution conduct and make publicly available in a timely manner audits of the government's annual financial statements. Maldives does not have a natural resource extraction sector.

Mali: The budget is publicly available and contains information on debt obligations. The budget includes, but does not break down, natural resource revenues and allocations to and earnings from state-owned enterprises. The government also had off-budget accounts not subject to audit or oversight. The supreme audit institution audits the annual executed budget, but public release of its most recent report has been delayed. The process for awarding natural resource extraction licenses and contracts is outlined in law or regulation and basic information on the awards is publicly available. Mali's fiscal transparency would be improved by including more detail on revenues and expenditures in budget documents, ensuring the timely public release of supreme audit institution reports, and subjecting all off-budget accounts to audit and oversight.

Mauritania: The budget is publicly available and substantially complete, including natural resource revenues and allocations to and earnings from state-owned enterprises. The supreme audit institution audits the financial statements of significant state-owned enterprises and the government's entire executed budget annually; its reports are made publicly available within a reasonable period of time. The process by which the government awards natural resource contracts or licenses is specified in law or regulations, but there are reports of inconsistent application of applicable regulations. Once awarded, basic information on such contracts or licenses is publicly available. Mauritania's fiscal transparency would be improved by making the process used to award natural resource extraction contracts and licenses consistent with the procedural requirements set by law or regulation.

Mozambique: While budget documents are publicly available, the government does not publish sufficient data about debt obligations and enterprises partially or wholly owned by the government. The government maintains an off-budget account for revenues obtained from large capital gain taxes, and this account is not subject to the same auditing and oversight as the rest of the budget. Additionally, the supreme audit institution does not audit the annual executed budget. The process for awarding natural resource extraction licenses and contracts is outlined in law and basic information on the awards is publicly available. Mozambique's fiscal transparency would be improved by reporting on debt obligations and enterprises which have government ownership, subjecting off-budget accounts to auditing and oversight, and publicly issuing a supreme audit institution audit of the government's annual financial statements.

Nicaragua: While the budget is publicly available and information on budgeted expenditures and revenues is considered credible, budget documents do not provide a substantially complete picture of revenues and expenditures. The government does not publicly account for the expenditure of significant off-budget assistance from Venezuela and this assistance is not subject to audit or legislative oversight. Allocations to and earnings from state-owned enterprises are included in the budget, but most state-owned enterprises are not audited. The supreme audit institution also does not audit the government's full financial statements. The process for allocating licenses and contracts for natural resource extraction is outlined in law and basic information on awards is publicly available. Nicaragua's fiscal transparency would be improved by including all off-budget revenue and expenditure in the budget, auditing state-owned enterprises, and conducting a full audit of the government's annual financial statements and making audit reports publicly available within a reasonable period of time.

Niger: Budget documents are publicly available, but do not detail all revenues and expenditures, such as allocations to and earnings from state-owned enterprises, revenues from natural resources, or debt associated with natural resources. While the process for awarding natural resource contracts or licenses is specified in law, in practice, the process used to award contracts and licenses is not always consistent with those procedural requirements. Once awarded, basic information on such contracts or licenses is publicly available. Niger made significant progress by publishing the annual budget online for the first time and eliminating delays in releasing budget execution reports. Niger's fiscal transparency would be improved by including all revenues and expenditures in the budget and adhering to the process for awarding natural resource extraction contracts and licenses as set out in applicable laws.

Nigeria: The budget and information on debt obligations are publicly available. However, significant expenditures related to refined fuel subsidies were funded off-budget. The supreme audit institution did not produce a comprehensive audit of the annual executed budget. The government also did not publish comprehensive audited financial statements of systemically important state-owned enterprises, including the Nigerian National Petroleum Corporation. Finally, the procedures surrounding the awarding of oil and gas licenses often are opaque, and basic information on awarded government exploration licenses in the oil sector is not publicly available. Nigeria's fiscal transparency would be improved by bringing all spending on budget, publishing comprehensive audits of systemically important state-owned enterprises, making the process for awarding oil and gas licenses more transparent, and making basic information on natural resource extraction awards publicly available.

Oman: The government makes publicly available its enacted budget and its year-end report, but does not publish a budget proposal. Publicly available budget documents lack sufficient detail and do not include allocations to the royal family. The government also maintains several off-budget accounts not subject to audit or oversight. The supreme audit institution does not audit the government's annual financial statements. The process for awarding natural resource extraction licenses and contracts is outlined in law and basic information on the awards is publicly available. Oman's fiscal transparency would be improved by publishing a proposed budget; adding more detail to the budget, such as detailing allocations to and earnings from state-owned enterprises; including expenditures for the royal family in the budget; subjecting off-budget accounts to audit and oversight and making information on such accounts publicly available; and having the supreme audit institution audit the budget annually and make public audit reports.

Pakistan: While budget documents are publicly available and provide a substantially complete picture of most revenues and expenditures, the budget of the intelligence agencies is not subject to parliamentary or other civilian oversight. The supreme audit institution is constitutionally mandated to audit expenditures, but not revenues, and does not produce audits of the government's annual financial statements. The process for awarding natural resource extraction licenses and contracts is outlined in law and basic information on the awards is publicly available. Pakistan's fiscal transparency would be improved by subjecting the intelligence agencies' budget to parliamentary or other civilian oversight. Pakistan's fiscal transparency would also be improved by expanding the constitutional mandate of the supreme audit institution to include revenues, and to produce and make publicly available the supreme audit institution's audit of the government's annual financial statements within a reasonable period of time.

Palestinian Authority: While information in the annual and monthly budget data is considered substantially complete, the budget preparation process is often delayed. The supreme audit institution's audits of the government's annual financial statements are not completed or made publicly available within a reasonable period of time. The Palestinian Authority's fiscal transparency would be improved by providing annual fiscal data to the supreme audit institution within a reasonable period of time and increasing its independence.

Sao Tome and Principe: The enacted budget, quarterly budget execution reports, and information on debt obligations are publicly available. However, the government does not make publicly available the proposed budget or an annual year-end budget report. The information in the budget is considered generally credible and the supreme audit institution audits the annual executed budget, but its reports are not published within a reasonable period of time. The process for awarding natural resource extraction licenses and contracts is outlined in law or regulation and basic information on the awards is publicly available. Sao Tome and Principe's fiscal transparency would be improved by making the proposed budget, year-end budget report, and supreme audit institution audits publicly available within a reasonable period of time.

Saudi Arabia: The government does not make a detailed budget publicly available. The limited data available in its annual budget statement do not break down expenditures by ministry or agency. Available budget documents do not include allocations to the Council of Ministers or to the royal family. In addition, there are often significant departures from planned budget receipts and expenditures that are not disclosed until the year-end statement. Saudi Arabia's supreme audit institution reports are not publicly available. Rules and regulations for up-stream oil are not publicly available. However, once awarded, basic information on such contracts or licenses is publicly available. Saudi Arabia's fiscal transparency would be improved by making publicly available detailed budgets that include all expenditures, supreme audit institution audit reports, and rules and regulations for upstream oil extraction contracting and licensing.

Seychelles: The government's budget summary in the form of a budget speech is publicly available, but the enacted and executed budgets are not. Some information on debt obligations is publicly available. Significant state-owned enterprises have audited accounts provided to an oversight body and are publicly available. Seychelles' supreme audit institution audits the government's annual financial statements and its report is made publicly available. The process for awarding natural resource extraction licenses and contracts is outlined in law or regulation and basic information on the awards is publicly available. Seychelles' fiscal transparency would be improved by providing more complete and detailed information on expenditures and debt obligations and making the proposed budget, enacted budget, and year-end report publicly available within a reasonable period of time.

Somalia: The budget and full information on debt obligations are not publicly available. The government published a mid-year budget execution report. The government does not produce revised budget estimates. The new supreme audit institution conducted an audit for 2012, which was not made public. The government does not follow consistent procedures in awarding natural resource extraction contracts and licenses. Somalia's fiscal transparency would be improved by resuming publication of budget documents, improving budget reliability, and producing and making publicly available audit reports. Fiscal transparency would also be improved by making natural resource extraction awards consistent with law or regulation, and making basic information on such awards publicly available.

South Sudan: While budget documents are publicly available and detailed, they do not include all natural resource revenues or security expenditures and the government reportedly maintains off-budget accounts not subject to audit or oversight. Budget execution also deviated significantly from plan and the government did not issue a revised budget. The supreme audit institution audits the budget annually, but its reports are not made publicly available within a reasonable period of time. The process for awarding natural resource extraction licenses and contracts is not outlined in law or regulation. South Sudan's fiscal transparency would be improved by including all revenues and expenditures in the budget; subjecting any off-budget accounts to audit and oversight; issuing revised budget estimates when execution deviates significantly from plan; making supreme audit institution audit reports publicly available in a reasonable timeframe; and establishing laws or regulations governing the award of natural resource extraction contracts and licenses.

Sudan: While the budget is publicly available, there are reports the budget significantly underreports expenditures and revenues, including the military and intelligence budgets. Also, several state-owned enterprises do not have audited financial statements and are not subject to oversight. There is no supreme audit institution. The process by which the government awards natural resource contracts and licenses is specified in law. However, the process actually used to award contracts is not always consistent with the procedural requirements set by law or regulation nor is basic information on awards publicly available. Sudan's fiscal transparency would be improved by including all expenditures and revenues in its budget, eliminating off-budget accounts or subjecting them to full audit and oversight, auditing all significant state-owned enterprises, developing a supreme audit institution that audits the budget annually and makes public its reports, adhering to the process for awarding natural resource extraction contracts and licenses as set out in applicable laws, and making publicly available basic information on natural resource extraction awards.

Suriname: The budget is publicly available and substantially complete with the exception of state-owned enterprises. Not all allocations to and earnings from state-owned enterprises are included in the budget, nor are all state-owned enterprise financial results audited, publicly available, or provided to an oversight body. Interim reports on budget execution and revised budget projections are not publicly available. The budget is considered generally credible, but the supreme audit institution has not audited government financial statements in recent years. While concession practices for petroleum production are outlined in law, the government does not have an established system specified in law or regulation for awarding mining contracts or licenses. The government does not regularly make basic information on mining awards publicly available. Suriname's fiscal transparency would be improved by detailing allocations to and earnings from state-owned enterprises in the budget, completing audits of the government's annual financial statements and publishing these audits within a reasonable period of time, improving the public availability of budget information, establishing and following a system for granting mining contracts, and making publicly available basic information on all awarded natural resource licenses and contracts.

Swaziland: The budget and related documents are publicly available and provide a general picture of government revenues and expenditures. However, revenues and expenditures related to natural resources are not included in the budget. Expenditures to support the royal family, military, police, and correctional services are included in the budget, but are not subject to the same oversight as the rest of the budget. The supreme audit institution audits yearly government financial accounts and produces publicly available reports. While the process for awarding natural resource extraction licenses and contracts is outlined in law, there is inconsistent application of applicable regulations and basic information on such awards is not publicly available. Fiscal transparency in Swaziland would be improved by including all expenditures and revenues in the budget; subjecting the entire budget to audit and oversight; consistently applying legal procedures in the awarding of natural resource extraction contracts and licenses; and making basic information on natural resource awards publicly available.

Tajikistan: Publicly available budget documents do not provide a full picture of the government's expenditures and revenues. Financial allocations to and revenues from state-owned enterprises are not included in the budget. The supreme audit institution does not make publicly available its audit of the government's annual financial statements. The process by which the national government awards natural resource contracts or licenses is specified in law, regulation, or other public document, but the process actually used to award contracts is not always consistent with the procedural requirements set by law or regulation. Once a contract or license is awarded, the basic terms of the contracts are not publicly available. Tajikistan's fiscal transparency would be improved by detailing expenditures by ministry or government agency, revenues by source and type, and producing yearly and publicly available audits of the budget by the supreme audit institution. Fiscal transparency would further be improved by adhering to the process for awarding natural resource extraction contracts and licenses, as set out in applicable laws or regulations, and making publicly available basic information on such awards.

Tanzania: While an abridged version of the budget is available online, the complete budget is only available in the Parliamentary Library in Dodoma, which is not easily accessible by most Tanzanians. The abridged budget does not clearly break down expenditures by ministry or government agency or revenues by source and type. The budget does not clearly identify allocations to and earnings from state-owned enterprises. The process for awarding natural resource extraction licenses and contracts is outlined in law or regulation and basic information on the awards is made public. Tanzania made significant progress by publishing online basic information on mining awards. Tanzania's fiscal transparency would be improved by making budget documents accessible to the public; providing more detail on revenues and expenditures in the budget including allocations to and earnings from state-owned enterprises; and increasing transparency in the hydrocarbon extraction award process.

Turkmenistan: The government makes only aggregate information on expenditures and revenues publicly available. Allocations to and revenues from state-owned enterprises are not disclosed, and the supreme audit institution does not make its audits publicly available. The process by which the national government awards natural resource concessions is specified in law or regulation and basic information on the awards is publicly available. Turkmenistan's fiscal transparency would be improved by making publicly available a budget that breaks down expenditures by ministry and revenues by source and type with a significant level of detail, and includes allocations to and revenues from state-owned enterprises. Turkmenistan's fiscal transparency would be further improved by producing and publishing audits of the government's financial statements by the supreme audit institution, and disclosing proceeds from the sale of oil and natural gas, which constitute the majority of the government's revenues.

Uganda: While the budget is publicly available, including online, it does not break down expenditures beyond sector line items. There is no public information on reported off-budget accounts. The supreme audit institution reviews the annual executed budget and makes its reports publicly available. The process for awarding natural resource extraction licenses and contracts is outlined in law or regulation. Once a contract or license is awarded, the government announces the basic terms of the contracts at press conferences, but does not otherwise make information publicly available. Uganda's fiscal transparency would be improved by including more detail in the budget, making information on off-budget accounts available to the public, subjecting these accounts to audit and oversight, limiting the classification or similar restrictions on the availability of the budget, subjecting classified budgets to audit and oversight, and making basic information on natural resource extraction awards publicly available.

Ukraine: The budget and information on debt obligations is publicly available and generally complete. However, four large social insurance funds are not included in the budget; revenue from state-owned natural resource producers is underreported; and increases in allocations to state-owned enterprises such as Naftogaz are common and substantial, affecting the reliability of the adopted budget. Naftogaz and several other significant state-owned enterprises, including UkrEximBank and Oschadbank, have publicly available audited financial statements but this is not the case for all state-owned enterprises. The supreme audit institution audits government expenditures annually but not revenues. The process for awarding natural resource extraction licenses and contracts is outlined in law. The government made significant progress by making public the criteria for awarding natural resource tenders and basic information on such awards. Ukraine's fiscal transparency would be improved by including all expenditures and revenues in the budget, increasing the reliability of budget data, making publicly available more state-owned enterprise audit reports, and expanding supreme audit institution audits to cover revenues.

Uzbekistan: Only a general overview of the budget is publicly available, and a supreme audit institution does not exist. The process by which the government awards natural resource contracts or licenses is not specified in law or regulation and basic information about contracts is not publicly available. Uzbekistan's fiscal transparency would be improved by including in the budget a breakdown of expenditures by ministry or government agency and revenues by source and type; information on debt obligations; and financial allocations to and earnings from state-owned enterprises. Uzbekistan's fiscal transparency would be further improved by establishing an independent supreme audit institution to produce and make publicly available audits of the government's financial statements; and establishing laws or regulations governing the award of natural resource extraction contracts and licenses, following the law in practice, and making publicly available information about such awards and contracts.

Yemen: During a period of significant internal political conflict, the government did not fully implement its budget processes. The budget was publicly available, including online, and contained sufficient detail. The supreme audit institution conducted an audit of the government's annual financial statements but its report was not publicly available. The process by which the government awards natural resource contracts or licenses is specified in law, but there are reports of inconsistent application of applicable regulations; basic information on such awards is publicly available. Yemen's fiscal transparency would be improved making publicly available supreme audit institution audits and making the process used to award natural resource extraction contracts and licenses consistent with the procedural requirements set by law or regulation.

Zimbabwe: The budget is publicly available but does not clearly detail natural resource revenues or the large allocation to the office of the president and cabinet. The budget does not include earnings from state-owned enterprises. The supreme audit institution audits the budget but its reports are not publicly available within a reasonable period of time. The process by which the government awards natural resource contracts or licenses is not specified in law or regulation nor is basic information about mining concessions publicly available. Zimbabwe's fiscal transparency would be improved by detailing revenues and expenditures including allocations to the office of the president and cabinet, and revenues from state-owned enterprises and natural resources; and making supreme audit institution reports publicly available within a reasonable period of time. Zimbabwe's fiscal transparency would also be improved by establishing laws and regulations governing natural resource extraction contracts and licensing, following the law in practice, and making basic information about such awards and contracts publicly available.

Dated: June 17, 2015.
Heather Higginbottom,
Deputy Secretary for Management and Resources, Department of State.

[FR Doc. 2015-15677 Filed 6-24-15; 8:45 am]

BILLING CODE 4710-07-P